SURFACE TRANSPORTATION BOARD

[Docket No. EP 748]

Indexing the Annual Operating Revenues of Railroads

The Surface Transportation Board (the Board) is publishing the annual inflation-adjusted index and deflator factors for 2023. The deflator factors are used by the railroads to adjust their gross annual operating revenues for classification purposes. This indexing methodology ensures that railroads are classified based on real business expansion and not on the effects of inflation. Classification is important because it determines the extent to which individual railroads must comply with the Board's reporting requirements.

The Board's deflator factors are based on the annual average of the Producer Price Index (PPI) industry data for line-haul railroads developed by the Bureau of Labor Statistics (BLS).¹

¹ Starting in this year's decision, the reference to the series for the Railroad Freight Price Index has been changed to match BLS's terminology (PPI industry data for line-haul railroads) for ease of identifying the information.

The Board's deflator factor is used to deflate revenues for comparison with established revenue thresholds.

Railroad Revenue Thresholds ²
Year | Factor | Class I | Class II
2019 ³ | 0.4952 | 504,803,294 | 40,384,263
2020 ⁴ | 1.0000 | 900,000,000 | 40,400,000
2021 | 0.9535 | 943,898,958 | 42,370,575
2022 | 0.8721 | 1,032,002,719 | 46,325,455
2023 | 0.8541 | 1,053,709,560 | 47,299,851

DATES: The inflation-adjusted indexes and deflator factors are effective January 1, 2023.

² In Montana Rail Link, Inc., & Wisconsin Central Ltd., Joint Petition for Rulemaking with Respect to 49 CFR part 1201, 8 I.C.C.2d 625 (1992), the Board's predecessor, the Interstate Commerce Commission, raised the revenue classification level for Class I railroads from $50 million (1978 dollars) to $250 million (1991 dollars), effective for the reporting year beginning January 1, 1992. The Class II threshold was also raised from $10 million (1978 dollars) to $20 million (1991 dollars). In Montana Rail Link, Inc.—Petition for Rulemaking—Classification of Carriers, EP 763 (STB served Apr. 5, 2021), the revenue classification level for Class I railroads was raised from $250 million (1991 dollars) to $900 million (2019 dollars), and the Class II threshold was converted and rounded from $20 million (1991 dollars) to $40.4 million (2019 dollars), effective for the reporting year beginning January 1, 2020.

³ The 2019 values reflect those in Indexing the Annual Operating Revenues of Railroads, EP 748 (STB served June 10, 2020).

⁴ The 2020 and subsequent values are based on the thresholds established in Docket No. EP 763, and the deflator factor is referenced to the new base year of 2019. As the PPI industry data for line-haul railroads remained the same from 2019 to 2020, the annual deflator factor for 2020 was 1.0000.

FOR FURTHER INFORMATION CONTACT: Pedro Ramirez at (202) 245-0333. If you require an accommodation under the Americans with Disabilities Act, please call (202) 245-0245.

Board decisions and notices are available at www.stb.gov.

Decided:
By the Board, Kristen Monaco, Ph.D., Director, Office of Economics.
Kenyatta Clay,
Clearance Clerk.

[FR Doc. 2024-11337 Filed 5-22-24; 8:45 am]

BILLING CODE 4915-01-P